NATIONAL SCIENCE FOUNDATION

Proposal Review Panel for Materials Research; Notice of Meeting

In accordance with the Federal Advisory Committee Act (Pub. L. 92-463, as amended), the National Science Foundation (NSF) announces the following meeting:

Name and Committee Code: Review of a Science and Technology Center on Real-Time Functional Imaging (STROBE)—Virtual—Division of Materials Research. (#1203).

Date and Time: January 18, 2023; 9:30 a.m.-7:00 p.m.; January 20, 2023; 9:30 a.m.-5:00 p.m.

Place: National Science Foundation, 2415 Eisenhower Avenue, Alexandria, Virginia 22314 (Virtual).

Type of Meeting: Part-open.

Contact Person: Z. Charles Ying, Program Director, Division of Materials Research, National Science Foundation, 2415 Eisenhower Avenue, Alexandria, VA 22314; Telephone (703) 292-8428.

Purpose of Meeting: To provide advice and recommendations concerning progress of the Science and Technology Center on Real-Time Functional Imaging (STROBE).

Agenda

Wednesday, January 18, 2023

9:30 a.m.-11:00 a.m. Closed—Executive Session

11:00 a.m.-1:00 p.m. Open—Review of STROBE

1:00 p.m.-7:00 p.m. Closed—Executive Session

Friday, January 20, 2023

9:30 a.m.-5:00 p.m. Closed—Executive Session

Reason for Closing: Topics to be discussed and evaluated during closed portions of the virtual site review will include information of a proprietary or confidential nature, including technical information; and information on personnel. These matters are exempt under 5 U.S.C. 552b(c), (4) and (6) of the Government in the Sunshine Act.

Dated: December 29, 2022.
Crystal Robinson,
Committee Management Officer.

[FR Doc. 2022-28555 Filed 1-3-23; 8:45 am]

BILLING CODE 7555-01-P